DEPARTMENT OF TRANSPORTATION

Federal Aviation Administration

14 CFR Part 39

[Docket No. 2004-CE-10-AD]

RIN 2120-AA64

Airworthiness Directives; Grob-Werke Gmbh & Co KG Models G102 CLUB ASTIR III, G102 CLUB ASTIR IIIb, and G102 STANDARD ASTIR III Sailplanes

AGENCY: Federal Aviation Administration (FAA), DOT.

ACTION: Notice of proposed rulemaking (NPRM).

SUMMARY: The FAA proposes to supersede Airworthiness Directive (AD) 2001-26-25, which applies to all Grob-Werke Gmbh & Co KG (Grob) Models G102 CLUB ASTIR III, G102 CLUB ASTIR IIIb, and G102 STANDARD ASTIR III sailplanes. AD 2001-26-25 currently requires you to apply a red mark and install a placard on the airspeed indicator to restrict the Vne airspeed. This proposed AD is the result of mandatory continuing airworthiness information (MCAI) issued by the airworthiness authority for Germany. Consequently, this proposed AD would require you to install additional mass balance in the elevator and ailerons and determine resultant empty weight and empty weight center of gravity; incorporate a revision in the sailplane maintenance manual; and remove the red mark and the red placard on the airspeed indicator (both required by AD 2001-26-25). We are issuing this proposed AD to prevent elevator flutter, which could cause structural damage. Such damage could result in loss of control of the sailplane.

DATE: We must receive any comments on this proposed AD by July 1, 2004.

ADDRESSES: Use one of the following to submit comments on this proposed AD:

• By mail: FAA, Central Region, Office of the Regional Counsel, Attention: Rules Docket No. 2004-CE-10-AD, 901 Locust, Room 506, Kansas City, Missouri 64106.

• By fax: (816) 329-3771.

• By e-mail: 9-ACE-7-Docket@faa.gov. Comments sent electronically must contain “Docket No. 2004-CE-10-AD” in the subject line. If you send comments electronically as attached electronic files, the files must be formatted in Microsoft Word 97 for Windows or ASCII.

You may get the service information identified in this proposed AD from GROB Luft-und Raumfahrt, Lettenbachstrasse 9, D-86874 Tussenhausen-Mattsies, Federal Republic of Germany; telephone: 49 8268 998139; facsimile: 49 8268 998200.

You may view the AD docket at FAA, Central Region, Office of the Regional Counsel, Attention: Rules Docket No. 2004-CE-10-AD, 901 Locust, Room 506, Kansas City, Missouri 64106. Office hours are 8 a.m. to 4 p.m., Monday through Friday, except Federal holidays.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Comments Invited

How do I comment on this proposed AD? We invite you to submit any written relevant data, views, or arguments regarding this proposal. Send your comments to an address listed under ADDRESSES. Include “AD Docket No. 2004-CE-10-AD” in the subject line of your comments. If you want us to acknowledge receipt of your mailed comments, send us a self-addressed, stamped postcard with the docket number written on it. We will date-stamp your postcard and mail it back to you.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

Has FAA taken any action to this point? The Luftfahrt-Bundesamt (LBA), which is the airworthiness authority for Germany, reported that during flight operation of Model G102 CLUB ASTIR IIIb sailplanes, two events of elevator flutter occurred in the upper flight speed range due to unknown causes. This resulted in us issuing AD 2001-26-25, Amendment 39-12591 (67 FR 809, January 8, 2002).

AD 2001-26-25 currently requires the following on Grob Models G102 CLUB ASTIR III, G102 CLUB ASTIR IIIb, and G102 STANDARD ASTIR III sailplanes:

—Application of a red mark on the airspeed indicator at 165 km/h, 89.1 kts, or 102.5 mph (according to the airspeed indicator calibration); and

—Installation of a red placard to the airspeed indicator restricting the Vne airspeed to 165 km/h, 89.1 kts, or 102.5 mph (according to the airspeed indicator calibration).

What has happened since AD 2001-26-25 to initiate this proposed action? The LBA recently notified FAA of the need to change AD 2001-26-25. As a result of extensive tests and calculations, the LBA has determined that operation within the original margins can be approved if additional mass balance is installed in the elevators and ailerons.

Additionally, the LBA has determined that the operation with restricted Vne airspeed to 165 km/h, 89.1 kts, or 102.5 mph (according to the airspeed indicator calibration) is permitted to continue until additional mass balance is installed in the elevator and ailerons.

What is the potential impact if FAA took no action? Elevator flutter could cause structural damage. Such damage could result in loss of control of the sailplane.

Is there service information that applies to this subject? Grob has issued the following:

—Service Bulletin No. MSB306-36/3, dated December 4, 2002;

—Service Installation Instructions No. MSB306-36/3, dated April 18, 2002; and

—Instructions for Continued Airworthiness GROB G 102, Revision 1, dated April 18, 2002.

What are the provisions of this service information? This service information includes procedures for:

—Installing additional mass balance in the elevator and ailerons and determining empty weight and empty weight center of gravity after installing any additional mass balance;

—Incorporating Revision 2, dated December 4, 2002, in the sailplane maintenance manual or other appropriate document; and

—Removing the red mark on the airspeed indicator (required by AD 2001-26-25) at 165 km/h, 89.1 kts, or 102.5 mph.

What action did the LBA take? The LBA classified this service information as mandatory and issued German AD Number 2001-317/4, dated January 9, 2003, to ensure the continued airworthiness of these sailplanes in Germany.

Did the LBA inform the United States under the bilateral airworthiness agreement? These Grob Models G102 CLUB ASTIR III, G102 CLUB ASTIR IIIb, and G102 STANDARD ASTIR III are manufactured in Germany and are type-certificated for operation in the United States under the provisions of section 21.29 of the Federal Aviation Regulations (14 CFR 21.29) and the applicable bilateral airworthiness agreement.

Under this bilateral airworthiness agreement, the LBA has kept us informed of the situation described above.

FAA's Determination and Requirements of This Proposed AD

What has FAA decided? We have examined the LBA's findings, reviewed all available information, and determined that AD action is necessary for products of this type design that are certificated for operation in the United States.

Since the unsafe condition described previously is likely to exist or develop on other Grob Models G102 CLUB ASTIR III, G102 CLUB ASTIR IIIb, and G102 STANDARD ASTIR III sailplanes of the same type design that are registered in the United States, we are proposing AD action to prevent elevator flutter, which could cause structural damage. Such damage could result in loss of control of the sailplane.

What would this proposed AD require? This proposed AD would supersede AD 2001-26-25 with a new AD that would incorporate the actions in the previously-referenced service bulletin and require removing the red placard to the airspeed indicator (currently required by AD 2001-26-25) restricting the Vne airspeed to 165 km/h, 89.1 kts, or 102.5 mph (according to the airspeed indicator calibration).

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many sailplanes would this proposed AD impact? We estimate that this proposed AD affects 50 sailplanes in the U.S. registry.

What would be the cost impact of this proposed AD on owners/operators of the affected sailplanes? We estimate the following costs to do this proposed modification to install additional mass balance in the elevator and ailerons and determine the empty weight and empty weight center of gravity; incorporate a revision in the applicable sailplane maintenance manual; and remove the red mark on the airspeed indicator and the red placard to the airspeed indicator:

Labor cost | Parts cost | Total cost per sailplane | Total cost on U.S. operators
10 workhours × $65 per hour = $650 | Not Applicable | $650 | $32,500

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2004-CE-10-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2001-26-25, Amendment 39-12591 (67 FR 809, January 8, 2002), and by adding a new AD to read as follows:

Grob-Werke Gmbh & Co KG: Docket No. 2004-CE-10-AD.

When Is the Last Date I Can Submit Comments on this Proposed AD?

(a) We must receive comments on this proposed airworthiness directive (AD) by July 1, 2004.

What Other ADs Are Affected By This Action?

(b) This AD supersedes AD 2001-26-25.

What Sailplanes Are Affected by This AD?

(c) This AD affects the following Models G102 CLUB ASTIR III, G102 CLUB ASTIR IIIb, and G102 STANDARD ASTIR III sailplanes, all serial numbers, that are certificated in any category.

What Is the Unsafe Condition Presented in This AD?

(d) This AD is the result of mandatory continuing airworthiness information (MCAI) issued by the airworthiness authority for Germany. The actions specified in this AD are intended to prevent elevator flutter, which could cause structural damage. Such damage could result in loss of control of the sailplane.

What Must I Do to Address This Problem?

(e) To address this problem, you must do the following, unless already done:

Actions | Compliance | Procedures
(1) Install additional mass balance in the elevator and ailerons and determine resultant empty weight and empty weight center of gravity | Within the next 25 hours time-in-service (TIS) after the effective date of this AD | Follow GROB Luft-und Raumfahrt Service Bulletin No. MSB306-36/3, dated December 4, 2002; GROB Luft-und Raumfahrt Service Installation Instructions No. MSB306-36/3, dated April 18, 2002; and Instructions for Continued Airworthiness GROB G 102, Revision 1, dated April 18, 2002. The applicable sailplane maintenance manual also addresses this issue.
(2) Incorporate Instructions for Continued Airworthiness GROB G 102, Revision 1, dated April 18, 2002, in the sailplane maintenance manual, or other appropriate document | Before further flight after installing the additional mass balance and determining the empty weight and empty weight center of gravity required by paragraph (d)(1) of this AD | Not Applicable.
(3) Remove the red mark on the airspeed indicator (formerly required by AD 2001-26-25) at 165 kilometers/hour (km/h), 89.1 knots (kts), or 102.5 miles per hour (mph) | Before further flight after installing the additional mass balance and determining the empty weight and empty weight center of gravity required by paragraph (d)(1) of this AD | Follow GROB Luft-und Raumfahrt Service Bulletin No. MSB306-36/3, dated December 4, 2002, and GROB Luft-und Raumfahrt Service Installation Instructions No. MSB306-36/3, dated April 18, 2002. The applicable sailplane maintenance manual also addresses this issue.
(4) Remove the red placard to the airspeed indicator (formerly required by AD 2001-26-25) restricting the Vne airspeed to 165 km/h, 89.1 kts. or 102.5 mph (according to the airspeed indicator calibration) | Before further flight after installing the additional mass balance and determining the empty weight and empty weight center of gravity required by paragraph (d)(1) of this AD | Not Applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

May I Get Copies of the Documents Referenced in This AD?

(g) You may get copies of the documents referenced in this AD from GROB Luft-und Raumfahrt, Lettenbachstrasse 9, D-86874 Tussenhausen-Mattsies, Federal Republic of Germany; telephone: 49 8268 998139; facsimile: 49 8268 998200. You may view these documents at FAA, Central Region, Office of the Regional Counsel, 901 Locust, Room 506, Kansas City, Missouri 64106.

(h) German AD Numbers 2001-317/4, dated January 9, 2003, and 2001-317/3, dated November 14, 2002, also address the subject of this AD.

Issued in Kansas City, Missouri, on May 25, 2004.
David R. Showers,
Acting Manager, Small Airplane Directorate, Aircraft Certification Service.

[FR Doc. 04-12575 Filed 6-2-04; 8:45 am]

BILLING CODE 4910-13-P